DEPARTMENT OF LABOR

Employment and Training Administration

[TA-W-63,243]

Leiner Health Products, LLC, Including On-Site Leased Workers From Action Staffing Groups of Wilson and Kelly Services, Inc., Wilson, NC; Notice of Termination of Investigation

In accordance with Section 221 of the Trade Act of 1974, as amended, an investigation was initiated on April 24, 2008 in response to a petition filed by a company official on behalf of workers of Leiner Health Products, LLC, including on-site leased workers from Action Staffing Groups of Wilson and Kelly Services, Inc., Wilson, North Carolina.

The petitioner has requested that the petition be withdrawn. Consequently, the investigation has been terminated.

Signed in Washington, DC, this, 24th day of July, 2008.
Richard Church,
Certifying Officer, Division of Trade Adjustment Assistance.

[FR Doc. E8-17885 Filed 8-4-08; 8:45 am]

BILLING CODE 4510-FN-P